DEPARTMENT OF DEFENSE

Defense Logistics Agency

Privacy Act of 1974; Systems of Records

Correction

In notice document 05-23127 beginning on page 70795 in the issue of Wednesday, November 23, 2005, make the following correction:

On page 70795, in the third column, under the signature block, insert the system identifying number “S500.55”, above SYSTEM NAME.

[FR Doc. C5-23127 Filed 12-9-05; 8:45 am]

BILLING CODE 1505-01-D